ENVIRONMENTAL PROTECTION AGENCY

Comprehensive Environmental Response, Compensation and Liability Act (CERCLA), Section 104 (k); Announcement of Proposal Deadlines for the Competition for the 2004 National Brownfields Assessment, Revolving Loan Fund, and Cleanup Grants

AGENCY: Environmental Protection Agency.

ACTION: Notice of the availability of brownfields grant application guidelines and deadlines for submissions of proposals.

SUMMARY: The United States Environmental Protection Agency (EPA) will begin to accept proposals for the National Brownfields Assessment, Revolving Loan Fund, and Cleanup Grants on October 16, 2003. This notice provides information on how to obtain the application guidelines. These grants may be used to address sites contaminated by petroleum and hazardous substances, pollutants, or contaminants (including hazardous substances co-mingled with petroleum). The brownfields assessment grants (each funded up to $200,000 over two years) provide funding for a grant recipient to inventory, characterize, assess, and conduct planning and community involvement related to brownfield sites. The brownfields revolving loan fund grants (each funded up to $1,000,000 over five years) provide funding for a grant recipient to capitalize a revolving loan fund and to provide subgrants to carry out cleanup activities at brownfield sites that are owned by the subgrant recipient. The brownfields cleanup grants (each funded up to $200,000 over two years) provide funding for a grant recipient to carry out cleanup activities at brownfield sites that are owned by the grant recipient (see Catalogue of Federal Domestic Assistance Number: 66.818).

For the brownfields assessment grants, an applicant may request a waiver of the $200,000 limit and obtain funding up to $350,000 based on the anticipated level of contamination, size, or ownership status of the site. The revolving loan fund and cleanup grants require a 20 percent cost share, which may be in the form of a contribution of money, labor, material, or services from a non-federal source. If the cost share is in the form of contribution of labor, material, or other services, it must be incurred for an eligible and allowable cost under the grant and not for ineligible costs. An applicant may request a waiver of the 20 percent cost share requirement based on hardship.

The National brownfields assessment, revolving loan fund, and cleanup grants will be awarded on a competitive basis. To ensure a fair selection process, evaluation panels consisting of EPA Regional and Headquarters staff and other federal agency representatives will assess how well the proposals meet the selection criteria outlined in the application booklet, Proposal Guidelines for Brownfields Assessment, Revolving Loan Fund, and Cleanup Grants (October 2003). Final selections will be made by EPA senior management after considering the ranking of proposals by the evaluation panels. EPA decisions may also take into account other statutory and policy considerations, such as fair distribution of funds between urban and non-urban and other geographic factors; compliance with the statutory petroleum funding allocation; the benefits of promoting the long-term availability of funds under the RLF grants; designation as a federal Empowerment Zone, Enterprise Community, or Renewal Community; population; and whether the applicant is a federally recognized Indian tribe. In addition, special consideration will be given to projects committed to achieving recognized green building and/or energy efficiency building standards.

DATES: This action is effective as of October 16, 2003. EPA expects to make up to 200 grant awards in fiscal year 2004, contingent upon the availability of funds. The application deadline for proposals for the 2004 assessment, revolving loan fund, and cleanup grants is December 4, 2003. All proposals must be postmarked by USPS or delivered to Don West, Environmental Management Support Inc., 8601 Georgia Avenue, Suite 500, Silver Spring, MD 20910 by other means, no later than December 4, 2003, and a duplicate copy sent to the appropriate U.S. EPA Regional Office.

ADDRESSES: Mailing addresses for EMS, U.S. EPA Regional Offices and U.S. EPA Headquarters are provided in the Proposal Guidelines.

Obtaining Proposal Guidelines: The proposal guidelines are available via the Internet: http://www.epa.gov/brownfields/.

Copies of the Proposal Guidelines will also be mailed upon request. Requests should be made by calling the U.S. EPA Call Center at the following numbers: Washington, DC, Metro Area at (703)-412-9810; Outside Washington, DC, Metro at 1-800-424-9346; and TDD for the Hearing Impaired at 1-800-553-7672.

In order to ensure that the Guidelines are received in time to be used in the preparation of the proposal, applicants should request a copy as soon as possible and in any event no later than ten (10) working days before the proposal due date. Applicants who request copies after that date might not receive the proposal guidelines in time to prepare and submit a responsive proposal.

FOR FURTHER INFORMATION CONTACT: The U.S. EPA's Office of Solid Waste and Emergency Response, Office of Brownfields Cleanup and Redevelopment, (202) 566-2777.

SUPPLEMENTARY INFORMATION: On January 11, 2002, President George W. Bush signed into law the Small Business Liability Relief and Brownfields Revitalization Act. This act amended the Comprehensive Environmental Response, Compensation and Liability Act to authorize federal financial assistance for brownfields revitalization, including grants for assessment, cleanup, and job training.

Funding for the brownfields grants is authorized under section 104(k) of the Comprehensive Environmental Response, Compensation, and Liability Act of 1980, as amended, (CERCLA), 42 U.S.C. 9604(k). Eligibility for brownfields assessment and revolving loan fund grants is limited to “eligible entities” as defined in section 104(k)(1) of CERCLA. These include a General Purpose Unit of Local Government; Land Clearance Authority or other quasi-governmental entity that operates under the supervision and control of, or as an agent of, a general purpose unit of local government; Governmental Entity Created by State Legislature; Regional council or group of general purpose units of local government; Redevelopment Agency that is chartered or otherwise sanctioned by a state; State; Indian Tribe other than in Alaska; and Alaska Native Regional Corporation, Alaska Native Village Corporation, and Metlakatla Indian Community. Eligibility for brownfields cleanup grants is limited to “eligible entities” and nonprofits. For the purposes of the brownfields grant program, EPA will use the definition of nonprofit organizations contained in section 4(6) of the Federal Financial Assistance Management Improvement Act of 1999, Public Law 106-107, 31 U.S.C. 6101, Note. The term “nonprofit organization” means any corporation, trust, association, cooperative, or other organization that is operated primarily for scientific, educational, service, charitable, or similar purpose in the public interest; is not organized primarily for profit; and uses net proceeds to maintain, improve, or expand the operation of the organization.

In addition, Intertribal Consortia, other than those composed of ineligible Alaskan tribes, are eligible to apply for the brownfields assessment, revolving loan fund, and cleanup grants. Coalitions of eligible governmental entities are eligible to apply for the brownfields revolving loan fund grants, but only one member of the coalition may receive a cooperative agreement.

The evaluation panels will review the proposals carefully and assess each response based on how well it addresses the criteria, briefly outlined below. There are two different types of criteria—threshold criteria and ranking criteria. Responses to the criteria will be utilized to determine whether to make an award and the amount of funds to be awarded. There is no guarantee of an award.

Assessment Grants

Threshold Criteria

A. Applicant Eligibility

B. Community Notification

C. Letter from the State or Tribal Environmental Authority

D. Site Eligibility and Property Ownership Eligibility

Ranking Criteria

A. Assessment Grant Proposal Budget (a maximum of 5 points may be received for this criterion)

B. Community Need (a maximum of 15 points may be received for this criterion)

C. Site Selection Process (a maximum of 10 points may be received for this criterion)

D. Sustainable Reuse of Brownfields/Development Potential (a maximum of 10 points may be received for this criterion)

E. Creation and/or Preservation of Greenspace/Open Space or Other Nonprofit Purpose (a maximum of 5 points may be received for this criterion)

F. Reuse of Existing Infrastructure (a maximum of 5 points may be received for this criterion)

G. Community Involvement (a maximum of 15 points may be received for this criterion)

H. Reduction of Threats to Human Health and the Environment (a maximum of 10 points may be received for this criterion)

I. Leveraging of Additional Resources (a maximum of 15 points may be received for this criterion)

J. Ability to Manage Grants (a maximum of 10 points may be received for this criterion)

Revolving Loan Fund Grants

Threshold Criteria

A. Applicant Eligibility

B. Community Notification

C. Letter from the State or Tribal Environmental Authority

D. Site Eligibility and Property Ownership Eligibility

E. Cleanup Authority and Oversight Structure

F. Cost Share

G. Legal Authority to Manage a Revolving Loan Fund

Ranking Criteria

A. RLF Grant Proposal Budget (a maximum of 5 points may be received for this criterion)

B. Community Need (a maximum of 15 points may be received for this criterion)

C. Description of Target Market for RLF Loans and Subgrants (a maximum of 10 points may be received for this criterion)

D. Business Plan (a maximum of 10 points may be received for this criterion)

E. Sustainable Reuse of Brownfields/Development Potential (a maximum of 10 points may be received for this criterion)

F. Creation and/or Preservation of Greenspace/Open Space or Other Nonprofit Purpose (a maximum of 5 points may be received for this criterion)

G. Reuse of Existing Infrastructure (a maximum of 5 points may be received for this criterion)

H. Community Involvement (a maximum of 15 points may be received for this criterion)

I. Reduction of Threats to Human Health and the Environment (a maximum of 10 points may be received for this criterion)

J. Leveraging of Additional Resources (a maximum of 15 points may be received for this criterion)

K. Ability to Manage Grants/Management Structure (a maximum of 10 points may be received for this criterion)

Cleanup Grants

Threshold Criteria

A. Applicant Eligibility

B. Community Notification

C. Letter from the State or Tribal Environmental Authority

D. Site Eligibility and Property Ownership Eligibility

E. Cleanup Authority and Oversight Structure

F. Cost Share

Ranking Criteria

A. Cleanup Grant Budget (a maximum of 5 points may be received for this criterion)

B. Community Need (a maximum of 15 points may be received for this criterion)

C. Sustainable Reuse of Brownfields/Development Potential (a maximum of 10 points may be received for this criterion)

D. Creation and/or preservation of Greenspace/Open Space or Other Nonprofit Purpose (a maximum of 5 points may be received for this criterion)

E. Reuse of Existing Infrastructure (a maximum of 5 points may be received for this criterion)

F. Community Involvement (a maximum of 15 points may be received for this criterion)

G. Reduction of Threats to Human Health and the Environment (a maximum of 10 points may be received for this criterion)

H. Leveraging of Additional Resources (a maximum of 15 points may be received for this criterion)

I. Ability to Manage Grants (a maximum of 10 points may be received for this criterion)

EPA decisions may take into account other statutory and policy considerations, such as fair distribution of funds between urban and non-urban and other geographic factors; compliance with the statutory petroleum funding allocation; the benefits of promoting the long-term availability of funds under the RLF grants; designation as a federal Empowerment Zone, Enterprise Community, or Renewal Community; population; and whether the applicant is a federally recognized Indian tribe. In addition, special consideration will be given to projects committed to achieving recognized green building and/or energy efficiency building standards.

Dated: October 7, 2003.
Linda Garczynski,
Director, Office of Brownfields Cleanup and Redevelopment, Office of Solid Waste and Emergency Response.

[FR Doc. 03-26192 Filed 10-15-03; 8:45 am]

BILLING CODE 6560-50-P